NATIONAL AERONAUTICS AND SPACE ADMINISTRATION

[Notice (22-054)]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation, and Engineering Committee of the NASA Advisory Council (NAC). This Committee reports to the NAC.

DATES: Wednesday, August 3, 2022, 8:30 a.m.-4:15 p.m., Eastern Time.

ADDRESSES: Meeting will be a hybrid of in-person and virtual. See dial-in and Webex information below under SUPPLEMENTARY INFORMATION.

FOR FURTHER INFORMATION CONTACT: Mr. Mike Green, Designated Federal Officer, Space Technology Mission Directorate, NASA Headquarters, Washington, DC 20546, via email at g.m.green@nasa.gov or (202) 358-4710.

SUPPLEMENTARY INFORMATION: This meeting will only be available by Webex or telephonically for members of the public. If dialing in via toll number, you must use a touch-tone phone to participate in this meeting. Any interested person may join via Webex at https://nasaenterprise.webex.com, the meeting number is 2760 821 3834, and the password is n@cTIE080322. The toll number to listen by phone is +1-415-527-5035. To avoid using the toll number, after joining the Webex meeting, select the audio connection option that says, “Call Me” and enter your phone number. If using the desktop or web app, check the “Connect to audio without pressing 1 on my phone” box to connect directly to the meeting.

Note: If dialing in, please mute your telephone.

The agenda for the meeting includes the following topics:

—Space Technology Mission Directorate (STMD) Update

—NASA Nuclear Systems Update

—Early Career Initiative Overview and Researcher Presentation

—2016 Space Technology Research Institutes Updates

—Office of Technology, Policy, and Strategy Update

—Update on Moon to Mars Blueprint

It is imperative that this meeting be held on this day to accommodate the scheduling priorities of the key participants.

Carol J. Hamilton,
Acting Advisory Committee Management Officer, National Aeronautics and Space Administration.

[FR Doc. 2022-15177 Filed 7-14-22; 8:45 am]

BILLING CODE 7510-13-P